DEPARTMENT OF ENERGY

[OE Docket No. EA-375-B]

Application To Export Electric Energy; Rainbow Energy Marketing Corporation

AGENCY: Office of Electricity, Department of Energy.

ACTION: Notice of application.

SUMMARY: Rainbow Energy Marketing Corporation (Applicant or Rainbow) has applied to renew its authorization to transmit electric energy from the United States to Mexico pursuant to the Federal Power Act.

DATES: Comments, protests, or motions to intervene must be submitted on or before July 20, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (FPA) (16 U.S.C. 824a(e)).

On December 3, 2015, DOE issued Order No. EA-375-A, which authorized Rainbow to transmit electric energy from the United States to Mexico as a power marketer for a five-year term using existing international transmission facilities appropriate for open access. This authorization expires on December 14, 2020. On June 5, 2020, Rainbow filed an application (Application or App.) with DOE for renewal of the export authorization contained in Order No. EA-375-A.

Rainbow states that its principal place of business is in Bismarck, North Dakota, and that it “is a privately owned U.S. corporation, which is partially owned by United Energy Corporation.” App. at 1-2. Rainbow adds that it “does not own or control any electric power generation or transmission facilities and does not have a franchised electric power service area.” Id. at 2.

Rainbow further states that it “will purchase the power to be exported from electric utilities and federal power marketing agencies as those terms are defined in the FPA.” App. at 3-4. Rainbow contends that its proposed exports “would not impede or tend to impede the coordinated use of transmission facilities within the meaning of FPA Section 202(e).” Id at 5.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Rainbow's Application should be clearly marked with OE Docket No. EA-375-B. Additional copies are to be provided directly to Joseph A. Wolfe, Kirkwood Office Tower, 919 South 7th Street, Suite 405, Bismarck, ND 58504, j.wolfe@rainbowenergy.com; and Steven A. Weiler, 1401 New York Avenue NW, Suite 900, Washington, DC 20005-2102, weiler.steve@dorsey.com.

A final decision will be made on this Application after the environmental impacts have been evaluated pursuant to DOE's National Environmental Policy Act Implementing Procedures (10 CFR part 1021) and after DOE determines that the proposed action will not have an adverse impact on the sufficiency of supply or reliability of the U.S. electric power supply system.

Copies of this Application will be made available, upon request, by accessing the program website at http://energy.gov/node/11845, or by emailing Matthew Aronoff at matthew.aronoff@hq.doe.gov.

Signed in Washington, DC, on June 15, 2020.
Christopher Lawrence,
Management and Program Analyst, Transmission Permitting and Technical Assistance, Office of Electricity.

[FR Doc. 2020-13236 Filed 6-18-20; 8:45 am]

BILLING CODE 6450-01-P